DEPARTMENT OF COMMERCE

National Oceanic and Atmospheric Administration

[RTID 0648-XS032]

Fisheries of the Caribbean, Gulf of Mexico, and South Atlantic; Reef Fish Fishery of Puerto Rico and the U.S. Virgin Islands; Exempted Fishing Permit

AGENCY: National Marine Fisheries Service (NMFS), National Oceanic and Atmospheric Administration (NOAA), Commerce.

ACTION: Notice of receipt of an application for an exempted fishing permit; request for comments.

SUMMARY: NMFS announces the receipt of an application for an exempted fishing permit (EFP) from the NMFS Panama City, FL laboratory. If granted, the EFP would authorize NMFS or NMFS contracted commercial fishers aboard a commercial fishing vessel to collect certain deep-water snapper species in waters of the U.S. exclusive economic zone (EEZ) off Puerto Rico. The EFP would exempt this activity from complying with certain seasonal and area closures and from certain bag limits in the U.S. Caribbean EEZ. The purpose of the EFP is to gather information that could be used to define essential fish habitat (EFH) of deep-water snappers off the coast of Puerto Rico and to determine life history information for queen, silk, black, and blackfin snappers.

DATES: Comments must be received no later than July 16, 2020.

ADDRESSES: You may submit comments on the application, identified by “NOAA-NMFS-2020-0071”, by any of the following methods:

• Electronic Submission: Submit all electronic public comments via the Federal e-Rulemaking Portal. Go to https://www.regulations.gov/docket?D=NOAA-NMFS-2020-0071, click the “Comment Now!” icon, complete the required fields, and enter or attach your comments.

• Mail: Sarah Stephenson, Southeast Regional Office, NMFS, 263 13th Avenue South, St. Petersburg, FL 33701.

The EFP application and related documents are available for review upon written request to any of the above addresses.

Instructions: Comments sent by any other method, to any other address or individual, or received after the end of the comment period, may not be considered by NMFS. All comments received are a part of the public record and will generally be posted for public viewing on www.regulations.gov without change. All personal identifying information (e.g., name, address, etc.), confidential business information, or otherwise sensitive information submitted voluntarily by the sender will be publicly accessible. NMFS will accept anonymous comments (enter N/A in the required fields if you wish to remain anonymous).

FOR FURTHER INFORMATION CONTACT: Sarah Stephenson, 727-824-5305; email: Sarah.Stephenson@noaa.gov.

SUPPLEMENTARY INFORMATION: The EFP is requested under the authority of the Magnuson-Stevens Fishery Conservation and Management Act (16 U.S.C. 1801 et seq.), and regulations at 50 CFR 600.745(b) concerning exempted fishing.

The applicant is currently conducting exempted fishing activities under an EFP for a similar deep-water snapper research project off Puerto Rico that was issued on November 16, 2018, and is valid through August 1, 2020. Notice of receipt of the application for the current EFP, with an opportunity to comment, published in the Federal Register on July 16, 2018 (83 FR 32843). No public comments on that EFP were received from that notice or since then from the public.

The applicant requests authorization to collect deep-water reef fish species in the U.S. EEZ off the west coast of Puerto Rico. The applicant is seeking to gather information that could be used to define essential fish habitat for deep-water snapper species off Puerto Rico, and to obtain additional life history information about queen, silk, black, and blackfin snapper. Specimens would be collected by NMFS researchers and/or contractors and contracted commercial fishermen aboard a commercial fishing vessel. These activities may be conducted without NMFS staff or contractors aboard the contracted vessel. This permit would exempt project participants from certain seasonal and area closure regulations at 50 CFR 622.435 and from certain reef fish bag limit regulations at 50 CFR 622.437, as identified and described below. Pending issuance, the EFP would be expected to be effective from August 1, 2020, through August 1, 2021.

Activities under the EFP would consist of harvesting reef fish during a total of 39 fishing trips in the 1-year project period, of which 15 trips would be within the U.S. EEZ off Puerto Rico. The remaining trips would be conducted in Puerto Rico territorial waters. Sampling sites would be randomly selected from locations with a high probability of containing habitat that could be considered essential for deep-water snappers as determined by bathymetric maps produced by NOAA's Marine Spatial Ecology Division (https://maps.ngdc.noaa.gov/viewers/bathymetry/). The target depth range for this project is 100 to 650 m, with sampling sites selected in each 50 m depth range throughout the overall depth range.

Project activities would be conducted from August 1, 2020, through August 1, 2021. The majority of sampling would occur in September and October of 2020. Sampling would occur along the western coast of Puerto Rico from Isabela to Puerto Real, including the Isla de Desecheo Marine Reserve.

Sampling would be conducted by hook-and-line drift fishing in deep-water habitats, with an underwater camera attached to a second fishing line. On each fishing trip, 4 to 10 sites would be fished per day based on distance between the sampling sites and weather. At each site, one vertical fishing line would be deployed from the commercial fishing vessel with a surface float and bottom weight for a 20-minute soak time. Twelve #9 hooks would be attached to the bottom 2 m of the line and manual snapper reels would be used to retrieve the line. Video cameras encased in deep-water housings and an LED light would be attached to a small, lightweight frame deployed on the second fishing line for a 30-minute soak time. Once deployed, the system would rest on the seafloor via tripod legs.

The applicant would target queen, silk, black, and blackfin snappers, but anticipates encountering other species. A maximum of 450 of the targeted species (up to 150 queen snapper; up to 120 silk snapper; up to 120 blackfin snapper; up to 60 black snapper) would be retained under the EFP. Additionally, a maximum of 400 of the incidental species (up to 100 vermilion and wenchman snapper combined; up to 100 red hind; up to 100 yellowfin, red, tiger, and black grouper combined; and up to 100 yellowedge grouper) would be either be possessed onboard the vessel only for the purpose of taking length measurements prior to being returned to the water if caught during seasonal and area closures, or would be retained if caught during other times.

Length measurements would be recorded for all targeted and incidental species except for species for which harvest is prohibited under Federal law (i.e., goliath and Nassau groupers, and midnight, rainbow, and blue parrotfishes). These prohibited species would be returned immediately to the water with a minimum of harm. The gonads, eyes, and otoliths of the targeted species would be removed for histological and ageing analyses conducted by NMFS, contracted observers, Puerto Rico's Department of Natural and Environmental Resources, and the University of South Carolina.

In order to minimize the negative biological effects of bringing these deep-water species to the surface, the commercial fishing vessel would have venting tools onboard to properly vent fish being released to facilitate their return to depth.

Under the EFP, the applicant would be allowed to fish for and possess the targeted and incidental deep-water species in or from the Bajo de Sico closed area during the October 1 through March 31 closure period (50 CFR 622.435(a)(2)(iv)). A maximum of 25 fishing trips would occur in the Bajo de Sico area during the project. In addition, the applicant would be allowed to fish for or possess the targeted and incidental deep-water species during species-specific seasonal closures: Yellowfin, red, tiger, black, and yellowedge grouper during the February 1 through April 30 seasonal closure (50 CFR 622.435(a)(1)(i)); red hind grouper during the December 1 through the last day of February seasonal closure from the EEZ west of 67°10′ W longitude (50 CFR 622.435(a)(1)(ii)); and silk, black, blackfin, and vermilion snappers during the October 1 through December 31 seasonal closure (50 CFR 622.435(a)(1)(iii)). The applicant intends to retain samples of the targeted species caught during the seasonal or area closures. After samples are taken from the targeted species, the remainder of the fish caught during a seasonal or area closure would be given to the contracted commercial fishermen for personal use and consumption. For incidental species, the EFP would allow the applicant to possess the species during the applicable seasonal and area closures for sufficient time to collect and record length measurements. If the targeted or incidental species are caught outside the closed seasons and closed areas, the commercial fishermen may retain them and sell them, consistent with applicable law. Additionally, as applicable for the targeted and incidental species described within the application and this notice, the applicant would be exempt from bag limit regulations at 50 CFR 622.437(b)(1).

NMFS finds this application warrants further consideration based on a preliminary review. Possible conditions the agency may impose on this permit, if it is granted, include but are not limited to, a prohibition on conducting sampling activities within marine protected areas, marine sanctuaries, or special management zones, without additional authorization, and requiring compliance with best practices in the event of interactions with any protected species. NMFS may also require annual reports summarizing the amount of reef fish species harvested during the seasonal and area closures, as well as during the period of effectiveness of any issued EFP. Additionally, NMFS would require any sea turtles taken incidentally during the course of the activities to be handled with due care to prevent injury to live specimens, observed for activity, and returned to the water.

A final decision on issuance of the EFP will depend on NMFS' review of public comments received on the application, consultations with the affected state(s), the Council, and the U.S. Coast Guard, and a determination that it is consistent with all applicable laws.

Authority: 16 U.S.C. 1801 et seq.

Dated: June 10, 2020.
Hélène M.N. Scalliet,
Acting Director, Office of Sustainable Fisheries, National Marine Fisheries Service.

[FR Doc. 2020-12873 Filed 6-15-20; 8:45 am]

BILLING CODE 3510-22-P